POSTAL SERVICE

Temporary Emergency Committee of the Board of Governors; Sunshine Act Meeting

DATES AND TIMES: December 5, 2016 at 2:00 p.m., and December 6, 2016, at 9:00 a.m.

PLACE: Las Vegas, Nevada.

STATUS: Closed.

MATTERS TO BE CONSIDERED:

Monday, December 5, 2016 at 2:00 p.m.

1. Strategic Issues.

2. Financial Matters.

3. Pricing.

4. Personnel Matters and Compensation Issues.

Tuesday, December 6, 2016 at 9:00 a.m.

1. Executive Session—Discussion of prior agenda items and Board governance.

GENERAL COUNSEL CERTIFICATION: The General Counsel of the United States Postal Service has certified that the meeting may be closed under the Government in the Sunshine Act.

CONTACT PERSON FOR MORE INFORMATION: Requests for information about the meeting should be addressed to the Secretary of the Board, Julie S. Moore, at 202-268-4800.

Julie S. Moore,
Secretary, Board of Governors.

[FR Doc. 2016-28921 Filed 11-29-16; 11:15 am]

BILLING CODE 7710-12-P